NATIONAL AERONAUTICS AND SPACE ADMINISTRATION

[Notice (03-130)]

NASA Space Science Advisory Committee, Structure and Evolution of the Universe Subcommittee; Meeting

AGENCY: National Aeronautics and Space Administration.

ACTION: Notice of meeting.

SUMMARY: The National Aeronautics and Space Administration announces a meeting of the NASA Space Science Advisory Committee (SScAC), Structure and Evolution of the Universe Subcommittee (SEUS).

DATES: Thursday, October 23, 2003, 8:30 a.m. to 5:30 p.m.; and Friday, October 24, 2003, 8:30 a.m. to 3 p.m.

ADDRESSES: Inn and Conference Center, University of Maryland, 3501 University Boulevard East, Adelphi, Maryland 20783.

FOR FURTHER INFORMATION CONTACT: Dr. Paul Hertz, Code SZ, National Aeronautics and Space Administration, Washington, DC 20546, 202/358-0986, paul.hertz@nasa.gov.

SUPPLEMENTARY INFORMATION: The meeting will be open to the public up to the seating capacity of the room. The agenda for the meeting is as follows:

—Report by Astronomy and Physics Director

—Report by SEU Theme Scientist

—Report of Astronomy and Physics Working Group

—NASA's response to the Bahcall Report on HST-JWST Transition

—Updates on LISA and Con-X

It is imperative that the meeting be held on these dates to accommodate the scheduling priorities of the key participants. Visitors will be requested to sign a visitor's register.

June W. Edwards,
Advisory Committee Management Officer, National Aeronautics and Space Administration.

[FR Doc. 03-25830 Filed 10-9-03; 8:45 am]

BILLING CODE 7510-01-P